DEPARTMENT OF COMMERCE

Bureau of the Census

National Advisory Committee Meeting

AGENCY: Bureau of the Census, Department of Commerce.

ACTION: Notice of public meeting.

SUMMARY: The Bureau of the Census (Census Bureau) gives notice of a meeting of the National Advisory Committee on Racial, Ethnic, and Other Populations (NAC). The NAC addresses policy, research, and technical issues relating to Census Bureau programs and activities, including the Decennial Census Program. The NAC is scheduled to meet in a plenary session on May 2-3, 2019. Planned topics of discussion include the following items:

• Update on the 2020 Census

○ Review of proposed 2020 Data Products Plan

○ Update on Integrated Partnership and Communications Program Partnership and Engagement Program Update

○ Update from the Undercount of Young Children Task Force

• Working Group Updates

Please visit the Census Advisory Committees website for the most current meeting agenda at: http://www.census.gov/about/cac.html. The meeting will be available live via webcast at: http://www.census.gov/newsroom/census-live.html.

DATES: May 2-3, 2019. On Thursday, May 2, the meeting will begin at 8:30 a.m. and end at 5:00 p.m. On Friday, May 3, the meeting will begin at 8:30 a.m. and end at 2:00 p.m.

ADDRESSES: The meeting will be held at the U.S. Census Bureau Auditorium, 4600 Silver Hill Road, Suitland, Maryland 20746.

FOR FURTHER INFORMATION CONTACT: Tara Dunlop Jackson, Branch Chief for Census Bureau Advisory Committees, at tara.dunlop.jackson@census.gov, Department of Commerce, U.S. Census Bureau, Room 8H177, 4600 Silver Hill Road, Washington, DC 20233, telephone 301-763-5222. For TTY callers, please use the Federal Relay Service 1-800-877-8339.

SUPPLEMENTARY INFORMATION: The NAC was established in March 2012 and operates in accordance with the Federal Advisory Committee Act (Title 5, United States Code, Appendix 2, Section 10). NAC members are appointed by the Director of the Census Bureau and provide recommendations to the Director on statistical and data collection issues on topics such as hard-to-reach populations, race and ethnicity, language, aging populations, American Indian and Alaska Native tribal considerations, new immigrant populations, populations affected by natural disasters, highly mobile and migrant populations, complex households, rural populations, and population segments with limited access to technology. The Committee also advises on data privacy and confidentiality, among other issues.

All meetings are open to the public. A brief period will be set aside at the meeting for public comment on Friday, May 3. However, individuals with extensive questions or statements must submit them in writing to: census.national.advisory.committee@census.gov (subject line “May 2019 NAC Meeting Public Comment”) or by letter submission to Tara Dunlop Jackson, Committee Liaison Officer, Department of Commerce, U.S. Census Bureau, Room 8H177, 4600 Silver Hill Road, Washington, DC 20233.

If you plan to attend the meeting, please register by Monday, April 29, 2019. You may access the online registration from the following link: https://may2019nac.eventbrite.com.

This meeting is physically accessible to people with disabilities. Requests for sign language interpretation or other auxiliary aids should also be directed to the Committee Liaison Officer as soon as known, and preferably two weeks prior to the meeting.

Due to security protocols and for access to the meeting, please call 301-763-9906 upon arrival at the Census Bureau on the day of the meeting. A photo ID must be presented in order to receive your visitor's badge. Visitors are not allowed beyond the first floor.

Dated: March 29, 2019.
Steven D. Dillingham,
Director, Bureau of the Census.

[FR Doc. 2019-06700 Filed 4-4-19; 8:45 am]

BILLING CODE 3510-07-P